DEPARTMENT OF LABOR

Mine Safety and Health Administration

30 CFR Part 75

RIN 1219-AB52

Sealing of Abandoned Areas

AGENCY: Mine Safety and Health Administration (MSHA), Labor.

ACTION: Correcting amendments.

SUMMARY: MSHA published a final rule in the Federal Register on April 18, 2008 (73 FR 21182) on Sealing of Abandoned Areas in underground coal mines. The final rule incorrectly listed cross-references in § 75.336(b)(1) and § 75.336(c). This document corrects the final rule by revising these sections.

DATES: Effective Date: The corrections are effective May 14, 2008.

FOR FURTHER INFORMATION CONTACT: Patricia W. Silvey, Director, Office of Standards, Regulations, and Variances, MSHA, 1100 Wilson Blvd., Room 2350, Arlington, Virginia 22209-3939, silvey.patricia@dol.gov (e-mail), (202) 693-9440 (voice), or (202) 693-9441 (telefax). This document is available on the Internet at http://www.msha.gov/REGSINFO.HTM.

SUPPLEMENTARY INFORMATION: As published, the preamble incorrectly referenced a section of the final rule. On page 21193, in the first column, in the first line, “§ 75.335(a)(1)(iii)” should be “§ 75.336(a)(1)(iii).” The sentence should read “Under final § 75.336(a)(1)(iii) for less than 120 psi seals constructed after April 18, 2008, the District Manager cannot approve different sampling locations and frequencies in the ventilation plan until after a minimum of 14 days and after seals have reached design strength.”

In addition, the final rule incorrectly listed cross-references in § 75.336(b)(1) and § 75.336(c). This document corrects the final rule by revising these sections.

List of Subjects in 30 CFR Part 75

Mine safety and health, Reporting and recordkeeping requirements, Underground coal mines, Ventilation.

Accordingly, 30 CFR part 75 is corrected by making the following correcting amendments:

PART 75—MANDATORY SAFETY STANDARDS—UNDERGROUND COAL MINES

1. The authority citation for part 75 continues to read as follows:

Authority: 30 U.S.C. 811.

2. Revise paragraph (b)(1) and the first sentence of paragraph (c) of § 75.336 to read as follows:

§ 75.336 Sampling and monitoring requirements.

* * * * *

(b) * * *

(1) Except as provided in § 75.336(d), the atmosphere in the sealed area is considered inert when the oxygen concentration is less than 10.0 percent or the methane concentration is less than 3.0 percent or greater than 20.0 percent.

* * * * *

(c) Except as provided in § 75.336(d), when a sample is taken from the sealed atmosphere with seals of less than 120 psi and the sample indicates that the oxygen concentration is 10 percent or greater and methane is between 4.5 percent and 17 percent, the mine operator shall immediately take an additional sample and then immediately notify the District Manager. * * *

* * * * *

Dated: May 8, 2008.
Jack Powasnik,
Deputy Director, Office of Standards, Regulations and Variances.

[FR Doc. E8-10662 Filed 5-13-08; 8:45 am]

BILLING CODE 4510-43-P